DEPARTMENT OF COMMERCE

International Trade Administration

[A-201-820]

Fresh Tomatoes from Mexico: Extension of Time Limit for Final Results of Five-Year Sunset Review

AGENCY: Import Administration, International Trade Administration, Department of Commerce.

ACTION: Notice of Extension of Time Limit for Final Results of Five-Year (“Sunset”) Review of the Suspended Antidumping Duty Investigation on Fresh Tomatoes from Mexico.

SUMMARY: The Department of Commerce (“the Department”) is extending the time limit for final results in the full sunset review of the suspended antidumping duty investigation on fresh tomatoes (“tomatoes”) from Mexico. We are extending the full sunset review of the suspended antidumping duty investigation to appropriately address issues relevant in the Department's on-going re-negotiation of the suspended agreement on tomatoes from Mexico. The Department intends to issue final results of this sunset review not later than August 27, 2002.

EFFECTIVE DATE: May 17, 2002.

FOR FURTHER INFORMATION CONTACT: James P. Maeder or Martha V. Douthit, Import Administration, International Trade Administration, U.S. Department of Commerce, 14th Street & Constitution Avenue, NW, Washington, DC 20230; telephone: (202) 482-3330 or (202) 482-5050, respectively.

SUPPLEMENTARY INFORMATION:

Extension of Final Results:

On October 1, 2001, the Department initiated (66 FR 49926 ) a sunset review of the suspended antidumping investigation on tomatoes from Mexico pursuant to section 751(c) of the Tariff Act of 1930, as amended ( “the Act”). On the basis of the notice of intent to participate filed on behalf of domestic interested parties, and adequate substantive comments filed on behalf of the domestic interested parties and respondent interested parties, the Department determined that a full (240 day) sunset review was warranted of this suspended antidumping duty investigation.

In a sunset review, the Department normally will issue its final results not later than 240 days after the date of publication in the Federal Register of the notice of initiation in accordance with 19 CFR 351.218 (f)(3)(i). However, if the Secretary determines that a full sunset review is extraordinarily complicated under section 751(c)(5)(C) of the Act, the Secretary may extend the period for issuing final results by not more than 90 days (see section 751 (c)(5)(B) of the Act).

We find this case to be extraordinarily complicated due to issues related to the on-going re-negotiation of the suspension agreement from Mexico. Therefore, we determine it appropriate to take the maximum amount of time allowed under the statute to conduct this sunset review. For this reason we are extending the period for issuing final results by 90 days. Thus, the Department intends to issue the final results on tomatoes from Mexico, not later than August 27, 2002, in accordance with section 751(c)(5)(B) of the Act.

Dated: May 10, 2002
Bernard T. Carreau,
Acting Assistant Secretary for Import Administration.

[FR Doc. 02-12445 Filed 5-16-02; 8:45 am]

BILLING CODE 3510-DS-S